DEPARTMENT OF TRANSPORTATION

Federal Railroad Administration

[Docket Number FRA-2008-0161]

Petition for Waiver of Compliance

In accordance with Part 211 of Title 49 Code of Federal Regulations (CFR), this document provides the public notice that by a document dated December 16, 2014, the Alaska Railroad Corporation (ARRC) has petitioned the Federal Railroad Administration (FRA) for a waiver of compliance from certain provisions of the Federal railroad safety regulations contained at 49 CFR part 238, Passenger Equipment Safety Standards. FRA assigned the petition Docket Number FRA-2008-0161.

The ARRC, a Class II railroad, petitioned FRA for a waiver of compliance from certain provisions of 49 CFR part 238, as prescribed by 49 CFR 238.303(c), Exterior calendar day inspection of passenger equipment, and 238.313(d), Class I brake test, for one set of conventional passenger equipment. Specifically, this waiver request applies to the seasonal Hurricane Turn passenger train. This service is operated during the months of May through September, 4 days a week with one round trip per day, between Talkeetna, AK, Milepost (MP) 226, and Hurricane Gulch Bridge, AK, MP 284. The passenger equipment utilized for this train consists of two passenger coaches, one baggage car, and two locomotives (used in push/pull service). This train provides “flag stop” service to residents and visitors to an area that has no road access.

The ARRC maintains mechanical facilities in Fairbanks, AK, MP 470, and Anchorage, AK, MP 114, where qualified maintenance employees are headquartered. The equipment is stored overnight at Talkeetna during the work week, and may be moved to Anchorage during rest days for cleaning, supplies, and servicing. FRA requires a qualified maintenance person (QMP) to conduct the daily exterior inspection and the Class I initial terminal airbrake inspection on each day the equipment is used. This requires the ARRC to assign a QMP to Talkeetna, where there is not enough work to support a position, or have an employee travel 224 miles (round trip) each day from Anchorage.

The ARRC requests that a QMP be authorized to complete the required daily exterior and airbrake inspections at Talkeetna at least once a week, during those months when equipment is stationed there. The equipment may be moved to Anchorage, or a mechanical department road truck will travel to Talkeetna to have a QMP conduct the required inspections. Talkeetna is the only location that this relief is sought. Qualified persons, as defined in 49 CFR 238.5, Definitions, may perform the exterior calendar-day inspection and Class I brake test on all other days, provided they are trained, qualified, and designated to perform such functions in accordance with 49 CFR 238.109, Training, qualification, and designation program.

The ARRC has safely operated this equipment under the conditions set by FRA's Railroad Safety Board since 2009, under Docket Number FRA-2008-0161. Due to economic growth, the ARRC is looking to expand the seasonal Hurricane Turn passenger train service and equipment. The ARRC has petitioned FRA to modify the current waiver of compliance to increase the service from 4 to 5 days a week and to increase the passenger train consist from two passenger coaches to three passenger coaches.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by May 14, 2015 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC, on March 24, 2015.
Ron Hynes,
Director, Office of Technical Oversight.

[FR Doc. 2015-07100 Filed 3-27-15; 8:45 am]

BILLING CODE 4910-06-P